SECURITIES AND EXCHANGE COMMISSION

[Release No. IC-25056]

Notice of Applications for Deregistration under Section 8(f) of the Investment Company Act of 1940

June 29, 2001.

The following is a notice of applications for deregistration under section 8(f) of the Investment Company Act of 1940 for the month of June, 2001. A copy of each application may be obtained for a fee at the SEC's Public Reference Branch, 450 Fifth St., NW, Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on July 24, 2001, and should be accompanied by proof of service on the applicant, in the form of an affidavit or, for lawyers, a certificate of service. Hearing requests should state the nature of the writer's interest, the reason for the request, and the issues contested. Persons who wish to be notified of a hearing may request notification by writing to the Secretary, SEC, 450 Fifth Street, N.W., Washington, DC 20549-0609. For Further Information Contact: Diane L. Titus, at (202) 942-0564, SEC, Division of Investment Management, Office of Investment Company Regulation, 450 Fifth Street, N.W., Washington, DC 20549-0506.

Kentucky Daily Municipal Income Fund, Inc. [File No. 811-8423]

Tennessee Daily Municipal Income Fund, Inc. [File No. 811-8427]

Texas Daily Municipal Income Fund, Inc. [File No. 811-8429]

Summary: Each applicant seeks an order declaring that it has ceased to be an investment company. Each applicant has never made a public offering of its securities and does not propose to make a public offering or engage in business of any kind.

Filing Dates: The applications were filed on May 14, 2001, and amended on June 22, 2001.

Applicants' Address: 600 Fifth Avenue, New York, NY 10020.

Calvert New World Fund, Inc. [File No. 811-8924]

Summary: Applicant seeks an order declaring that it has ceased to be an investment company. On March 29, 2001, applicant transferred its assets to Calvert South Africa Fund, a series of Calvert Impact Fund, Inc., based on net asset value. Expenses of $4,139 incurred in connection with the reorganization were paid by Calvert South Africa Fund.

Filing Dates: The application was filed on May 17, 2001, and amended on June 14, 2001.

Applicant's Address: 4550 Montgomery Avenue, Suite 1000N. Bethesda, MD 20814.

Leland Funds, Inc. [File No. 811-9573]

Leland Real Estate Collective Investment Trust [File No. 811-9775]

Summary: Each applicant seeks an order declaring that it has ceased to be an investment company. Neither applicant has ever made a public offering of its securities and does not propose to make a public offering or engage in business of any kind.

Filing Dates: The applications were filed on May 17, 2001, and amended on June 1, 2001, and June 18, 2001.

Applicants' Address: c/o ASB Capital Management, Inc., 1101 Pennsylvania Avenue, NW, Suite 300, Washington, DC 20004.

Putnam Dividend Income Fund [File No. 811-5852]

Summary: Applicant, a closed-end investment company, seeks an order declaring that it has ceased to be an investment company. On May 25, 2001, applicant made a liquidating distribution to its shareholders based on net asset value. Applicant has retained $405,094 to pay accrued and unpaid liabilities. Expenses of approximately $274,000 incurred in connection with the liquidation were paid by applicant.

Filing Date: The application was filed on May 30, 2001.

Applicant's Address: One Post Office Sq., Boston, MA 02109.

WCT Funds [File No. 811-8335]

Summary: Applicant seeks an order declaring that it has ceased to be an investment company. On April 28, 2000, applicant transferred its assets to Federated Stock Trust based on net asset value. Applicant incurred no expenses in connection with the reorganization.

Filing Date: The application was filed on June 5, 2001.

Applicant's Address: Federated Investors Tower, 1001 Liberty Ave., Pittsburgh, PA 15222-3779.

1-800 MUTUALS Fund Group, Inc. [File No. 811-9099]

Summary: Applicant seeks an order declaring that it has ceased to be an investment company. Applicant has never made a public offering of its securities and does not propose to make a public offering or engage in business of any kind.

Filing Dates: The application was filed on April 19, 2001, and amended on June 5, 2001.

Applicant's Address: Plaza of the Americas, 600 North Pearl St., Suite 2150 Dallas, TX 75201.

Gen-Net Realty Unit Investment Trust, Corporate-Government Series [File No. 811-9949]

Summary: Applicant, a unit investment trust, seeks an order declaring that it has ceased to be an investment company. Applicant has never made a public offering of its securities and does not propose to make a public offering or engage in business of any kind.

Filing Dates: The application was filed on April 25, 2001, and amended on June 20, 2001.

Applicant's Address: One Oakland Towne Square, 14th Floor, Southfield, MI 48076.

The Emerging Markets Telecommunications Fund, Inc. [File No. 811-6562]

The Latin America Equity Fund, Inc. [File No. 811-6413]

Summary: Each applicant, a closed-end investment company, seeks an order declaring that it has ceased to be investment companies. On November 3, 2000, The Emerging Markets Telecommunications Fund, Inc. transferred its assets to The Emerging Markets Infrastructure Fund, Inc. based on net asset value. On November 10, 2000, The Latin America Equity Fund, Inc. transferred its assets to The Latin America Investment Fund, Inc. based on net asset value. Expenses of $543,730 and $490,605, respectively, incurred in connection with the reorganizations were shared equally between each applicant and its acquiring fund.

Filing Dates: The applications were filed on November 9, 2000, and November 14, 2000, respectively, and amended on May 23, 2001.

Applicants' Address: 466 Lexington Avenue, 16th Floor, New York, New York 10017.

Group Variable Annuity Account [File No. 811-8538]

Summary: Applicant seeks an order declaring that it has ceased to be an investment company. On December 1, 2000, applicant made a liquidating distribution to its remaining shareholder based on net asset value. Expenses of $2,625 incurred in connection with the liquidation were paid by Minnesota Life Insurance Company.

Filing Dates: The application was filed on December 6, 2000, and amended on June 1, 2001.

Applicant's Address: 400 Robert Street North, St. Paul, Minnesota 55101-2098.

Advisor's Fund [File No. 811-8843]

Summary: Applicant seeks an order declaring that it has ceased to be an investment company. On June 18, 2000, applicant made a liquidating distribution to its shareholders based on net asset value. No expenses were incurred in connection with the liquidation.

Filing Dates: The application was filed on November 30, 2000, and amended on June 26, 2001.

Applicant's Address: 700 SW Harrison Street, Topeka, Kansas 66636-0001.

SBL Variable Annuity Account X [File No. 811-8779]

Summary: Applicant seeks an order declaring that it has ceased to be an investment company. On June 18, 2000, applicant made a liquidating distribution to its shareholders based on net asset value. No expenses were incurred in connection with the liquidation.

Filing Dates: The application was filed on December 22, 2000, and amended on June 26, 2001.

Applicant's Address: 700 SW Harrison Street, Topeka, Kansas 66636-0001.

For the Commission, by the Division of Investment Management, pursuant to delegated authority.

Jonathan G. Katz,
Secretary.

[FR Doc. 01-16927 Filed 7-5-01; 8:45 am]

BILLING CODE 8010-01-M